DEPARTMENT OF COMMERCE

National Oceanic and Atmospheric Administration

50 CFR Part 300

RIN 0648-BH36

Fisheries off West Coast States; Highly Migratory Fisheries; Amendment 4 to Fishery Management Plan for West Coast Highly Migratory Species Fisheries (HMS FMP); Revisions to the Biennial Management Cycle

AGENCY: National Marine Fisheries Service (NMFS), National Oceanic and Atmospheric Administration (NOAA), Commerce.

ACTION: Notice of availability of an amendment to a fishery management plan; request for comments.

SUMMARY: NMFS announces that the Pacific Fishery Management Council (Council) has submitted Amendment 4 to the Fishery Management Plan for U.S. West Coast Fisheries for Highly Migratory Species (HMS FMP) for review by the Secretary of Commerce. The intent of Amendment 4 is to bring descriptions of the management context for highly migratory species (HMS) fisheries up to date, better describe the Council's role in the process of making stock status determinations including evaluations of the best scientific information available (BSIA), and change the schedule of the Council's three-meeting biennial management cycle for HMS stocks. The amendment is administrative in nature and is not expected to affect activities authorized under the FMP or their harvest levels.

DATES: Comments on Amendment 4 must be submitted received by March 26, 2018 to be considered in the decision whether to approve, disapprove, or partially approve Amendment 4.

ADDRESSES: You may submit comments on this document, identified by NOAA-NMFS-2017-0138, by any of the following methods:

• Electronic Submission: Submit all electronic public comments via the Federal e-Rulemaking Portal. Go to http://www.regulations.gov/#!docketDetail;D=NOAA-NMFS-2017-0138, click the “Comment Now!” icon, complete the required fields, and enter or attach your comments.

• Mail: Submit written comments to Amber.Rhodes@noaa.gov, NMFS West Coast Region Long Beach Office, 501 W Ocean Blvd., Suite 4200, Long Beach, CA 90802. Include the identifier “NOAA-NMFS-2017-0138” in the comments.

Instructions: Comments must be submitted by one of the above methods to ensure they are received, documented, and considered by NMFS. Comments sent by any other method, to any other address or individual, or received after the end of the comment period, may not be considered. All comments received are a part of the public record and will generally be posted for public viewing on www.regulations.gov without change. All personal identifying information (e.g., name, address, etc.) submitted voluntarily by the sender will be publicly accessible. Do not submit confidential business information, or otherwise sensitive or protected information. NMFS will accept anonymous comments (enter “N/A” in the required fields if you wish to remain anonymous).

Copies of the draft Amendment 4 and other supporting documents are available via the Federal eRulemaking Portal: http://www.regulations.gov, docket NOAA-NMFS-2017-0138, or contact Amber Rhodes, NMFS West Coast Region, 562-980-3231, Amber.Rhodes@noaa.gov or Heidi Taylor, NMFS West Coast Region, 562-980-4039, Heidi.Taylor@noaa.gov.

FOR FURTHER INFORMATION CONTACT: Amber Rhodes, NMFS, 562-980-3231, Amber.Rhodes@noaa.gov or Heidi Taylor, NMFS, 562-980-4039, Heidi.Taylor@noaa.gov.

SUPPLEMENTARY INFORMATION: During the Council's 2016 biennial management cycle meetings for HMS and considerations for recent revisions to agency guidelines for National Standard 1 (81 FR 71858, October 18, 2016), key differences have become evident regarding the management of HMS stocks versus other Council-managed stocks for which management activities are largely or fully within the scope of Council jurisdiction. In contrast to NMFS-conducted assessments for other Council-managed stocks, HMS assessments are conducted by teams of regional fishery management organization (RFMO) science providers, which may include scientists from the United States and other participating nations in Pacific HMS fisheries or international science providers who work at RFMOs. Additionally, alternative peer review processes are used to determine whether the output of these international HMS assessments constitute BSIA (81 FR 54561; August 16, 2016), consistent with BSIA determinations for most U.S.-targeted stocks subject to international agreements. Following these steps, NMFS uses assessment outputs, which meet the BSIA standard, to determine stock status by following the status determination criteria (i.e., maximum fishing mortality thresholds and minimum stock size thresholds) in the HMS FMP.

The proposed changes to the HMS FMP are administrative in nature, do not involve the issuance of any permits, and are described in further detail below:

• The description of the stock status determination process in Chapter 4 of the current HMS FMP has been revised to account for the fact that the HMS management unit species are internationally assessed and that these stock assessments are not routinely subject to Scientific and Statistical Committee (SSC) review for purposes of determining BSIA, unlike assessments for domestically-managed stocks.

• Additionally, to better align the Council's biennial management schedule with the NMFS' process for conducting HMS stock status determinations, the schedule described in Chapter 5 of the FMP would be changed under the proposed amendment to the HMS FMP. The three-meeting biennial management cycle would take place during September, November, and March Council meetings instead of during June, September, and November meetings; however, the schedule would continue to start on even years.

• Chapters 1 and 6 in the FMP also have been substantially revised to better describe the management context (Chapter 1) and the types of measures available and in use to manage U.S. West Coast HMS fisheries (Chapter 6).

• Chapter 8 (Research and Data Needed for Management) is proposed to be deleted, because it is out of date. This information may be periodically updated and presented in the HMS Stock Assessment and Fishery Evaluation Report produced by the HMS Management Team and the Research and Data Needs Report produced periodically by the Council's SSC.

NMFS expects to publish and request public comment on proposed revisions to regulations to implement Amendment 4 in the near future. Public comments on the proposed rule must be received by the end of the comment period on Amendment 4 to be considered in the approval/disapproval decision on the amendment. All comments received during the comment period for Amendment 4, whether specifically directed to the amendment, or the proposed rule, will be considered in the decision whether to approve, disapprove, or partially approve Amendment 4.

Authority: 16 U.S.C. 1801 et seq.

Dated: January 18, 2018.
Emily H. Menashes,
Acting Director, Office of Sustainable Fisheries, National Marine Fisheries Service.

[FR Doc. 2018-01180 Filed 1-22-18; 8:45 am]

BILLING CODE 3510-22-P